DEPARTMENT OF THE INTERIOR

National Park Service

Information Collection; Request for Extension

AGENCY: National Park Service, Interior.

ACTION: Notice of request for a currently approved information collection.

SUMMARY: In compliance with the Paperwork Reduction Act of 1995, the National Park Service (NPS) is announcing its intention to request an extension of a currently approved information collection (OMB Control #1024-0125) under 36 CFR part 51 relating to the submission of offers in response to concession prospectuses issued by the National Park Service (NPS). The collection described below has been forwarded to the Office of Management and Budget (OMB) for review and comment. The information request describes the nature of the information collection and the expected burden and cost.

DATES: OMB has up to 60 days to approve or disapprove the information collection but may respond after 30 days. Therefore, public comments should be submitted to OMB by December 3, 2003, in order to be assured of consideration.

ADDRESSES: Send comments to Attention: Desk Officer for the Department of the Interior, OMB Office of Information and Regulatory Affairs, via facsimile at 202/395-6566, or via e-mail at OIRA_DOCKET@omb.eop.gov. Also, send a copy of your comments to Cynthia L. Orlando, Concession Program Manager, National Park Service, 1849 C Street, NW. (2410), Washington, DC 20240, or electronically to cindy_orlando@nps.gov. All comments will become a matter of public record. Copies of the proposed Information Collection Request can be obtained from Erica Smith-Chavis, National Park Service, 1849 C Street, NW. (2420), Washington, DC 20240.

SUPPLEMENTARY INFORMATION: Title: Submission of Offers requirement in response to concession prospectuses—36 CFR 51.

OMB Control Number: 1024-0125.

Expiration Date of Approval: August 31, 2003.

Type of Request: Extension of a currently approved information collection.

Abstract: The Office of Management and Budget (OMB) regulations at 5 CFR part 1320, which implement provisions of the Paperwork Reduction Act of 1995 (Pub. L. 104-13) require that interested members of the public and affected agencies have an opportunity to comment on information collection and recordkeeping activities (see 5 CFR 13200.8(d)). NPS has submitted a request to OMB to renew approval of the collection of information in 36 CFR part 51, Concession contracts, relating to the submission of offers in response to prospectuses issued by NPS. NPS is requesting a 3-year term of approval for this information collection activity. An agency may not conduct or sponsor, and a person is not required to respond to, a collection of information unless it displays a currently valid OMB control number. The OMB control number for this collection of information is 1024-1025, and is identified in 36 CFR 51.104.

As required under 5 CFR 1320.8(d), a Federal Register notice soliciting comments on these collections of information was published on May 29, 2003 (65 FR 8735). No comments were received. This notice provides the public with an additional 30 days in which to comment on the following information collection activity:

The regulations at 36 CFR part 51 primarily implement Title IV of the National Parks Omnibus Management Act of 1998 (Pub. L. 105-391 or the Act), which provides new legislative authority, policies, and requirements for the solicitation, award, and administration of NPS concession contracts. The regulations require the submission of offers by parties interested in applying for a NPS concession contract. Specific requirements regarding the information that must be submitted by offerors in response to a prospectus issued by NPS are contained in Sections 403(4), (5), (7), and (8) of the Act.

Bureau Form Number: None.

Frequency of Collection: On occasion.

Description of Respondents: Persons or entities seeking a National Park Service concession contract.

Total Annual Responses: 240.

Total Annual Burden Hours: 76,800.

Total Non-hour Cost Burden: $1,120,000.

Send comments on (1) the need for the collection of information for the performance of the functions of the agency; (2) the accuracy of the agency's burden estimates; (3) ways to enhance the quality, utility and clarity of the information collection; (4) and ways to minimize the information collection burden on respondents, such as use of automated means of collection of the information, to the following address. Please refer to OMB control number 1024-0125 in all correspondence.

Our practice is to make comments, including names and home addresses of respondents, available for public review during regular business hours. Individuals respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Dated: August 6, 2003.
Leonard E. Stowe,
Acting NPS Information Collection Clearance Officer.

[FR Doc. 03-27534 Filed 10-31-03; 8:45 am]

BILLING CODE 4310-70-M